DEPARTMENT OF TRANSPORTATION

Federal Transit Administration

Fiscal Year 2016 Public Transportation on Indian Reservations Program Project Selections

AGENCY: Federal Transit Administration (FTA), (DOT).

ACTION: Tribal Transit Program Announcement of Project Selections.

SUMMARY: The Federal Transit Administration (FTA) announces the selection of 35 projects for funding with Fiscal Year (FY) 2016 appropriations for the Public Transportation on Indian Reservations Program Tribal Transit Program (TTP), as authorized by (49 U.S.C. 5311(c)(1)(a)(j)), as amended by the Fixing America's Surface Transportation (FAST) Act, Public Law 114-94 (December 4, 2015). A total of $5 million is available under this program.

FOR FURTHER INFORMATION CONTACT: Successful applicants should contact the appropriate FTA Regional office for information regarding applying for the funds or program-specific information. A list of Regional offices, along with a list of tribal liaisons can be found at www.transit.dot.gov. Unsuccessful applicants may contact Élan Flippin, Office of Program Management at (202) 366-3800, email: Elan.Flippin@dot.gov, to arrange a proposal debriefing within 30 days of this announcement. In the event the contact information provided by your tribe in the application has changed, please contact your regional tribal liaison with the current information in order to expedite the grant award process. A TDD is available at 1-800-877-8339 (TDD/FIRS).

SUPPLEMENTARY INFORMATION: On March 14, 2016, FTA published a Notice of Funding Opportunity (NOFO) through a Federal Register Notice (81 FR 13444) announcing the availability of Federal funding for the TTP program. The FAST Act authorizes $5 million annually for federally recognized Indian Tribes or Alaska Native villages, groups, or communities as identified by the Bureau of Indian Affairs (BIA) in the U.S. Department of the Interior for public transportation. The TTP supports many types of projects including: Operating costs to enable tribes to start or continue transit services; capital to enable tribal investment in new or replacement equipment; and funding for tribal transit planning activities for public transportation services in Indian Country. TTP services link tribal citizens to employment, food, healthcare, school, social services, recreation/leisure, and other key community connections. FTA funds may only be used for eligible purposes defined under 49 U.S.C. 5311 and described in the FTA Circular 9040.1G, and consistent with the specific eligibility and priorities established in the March 2016 NOFO.

A total of 44 applications were received from 39 tribes in 13 states requesting $8.3 million, indicated that there is significant demand for funds for public transportation projects. Project proposals were evaluated based on each applicant's responsiveness to the program evaluation criteria outlined in FTA's March 2016 NOFO. The FTA also took into consideration the current status of previously funded applicants. This included examining available prior year competitive and formula balances; and geographic balance and diversity, including regional balance based on tribal population. As a result, FTA is funding a total of 35 projects for 34 tribes in 12 states. The projects selected in Table 1 provide funding for transit planning studies, capital and operating requests for existing, start-up, expansion and replacement projects. Funds must be used only for the specific purposes identified in Table 1. Allocations may be less than what the applicant requested and were capped at $329,843 to provide funding to all highly recommended, recommended, and planning proposals that received a “pass” rating; planning projects were capped at $25,000. Tribes selected for competitive funding should work with their FTA regional office to finalize the grant application in FTA's Transit Award Management System (TrAMs) for the projects identified in the attached table, so that funds are expeditiously obligated. In cases where the allocation amount is less than the proposer's requested amount, tribes should work with the regional office to ensure the funds are obligated for eligible aspects of the projects, and for specific purpose intended as reflected in Table 1. A competitive project identification number has been assigned to each project for tracking purposes, and must be used in the TrAMs application. For more information about TrAMs, please visit: http://www.transit.dot.gov/16260_15769.html. The post award reporting requirements include submission of the Federal Financial Report (FFR), Milestone Report in TrAMs, and National Transit Database (NTD) reporting, as appropriate (see FTA Circular 9040.1G).

Tribes must continue to report to the NTD to be eligible for formula apportionment funds. To be considered in the FY 2017 formula apportionments, tribes should have submitted their reports to the NTD no later than June 30, 2016; voluntary reporting to the NTD is also encouraged. For tribes who have not reported before, please contact the NTD Operations Center in advance to get a reporting account for the NTD on-line data collection system. The Operation Center can be reached Monday-Friday, 8:00 a.m.-7:00 p.m. (ET), by email NTDHelp@dot.gov or by phone 1-888-252-0936.

TTP grantees must comply with all applicable Federal statutes, regulations, executive orders, FTA circulars, and other Federal requirements in carrying out the project supported by the FTA grant. To assist tribes with understanding these requirements, FTA has conducted Tribal Transit Technical Assistance Workshops, and expects to offer additional workshops in FY2017. FTA has also expanded its technical assistance to tribes receiving funds under this program, with the Tribal Transit Technical Assistance Assessments initiative. Through these assessments, FTA collaborates with tribal transit leaders to review processes and identify areas in need of improvement and then assist with solutions to address these needs. These assessments include discussions of compliance areas pursuant to the Master Agreement, a site visit, promising practices reviews, and technical assistance from FTA and its contractors. These workshops and assessments have received exemplary feedback from Tribal Transit Leaders, and provide FTA with invaluable opportunities to learn more about tribal transit leaders' perspectives, and honor the sovereignty of tribal nations. FTA will post information about upcoming workshops to its Web site and disseminate information about the reviews through its Regional offices. A list of Tribal Liaisons can be found on FTA's Web site at http://www.transit.dot.gov/13094_15845.html.

Funds allocated in this announcement must be obligated in a grant by September 30, 2018. Tribes selected for competitive funding should work with their FTA regional tribal liaison to finalize the grant application in TrAMs.

Carolyn Flowers,
Acting Administrator.

Table I—FY 2016 Tribal Transit Program Awards
State | Recipient | Project ID | Project description | Allocation
AK | McGrath Native Village | D2016-TRTR-001 | Start-up/Capital | $63,000
AK | Native Village of Fort Yukon | D2016-TRTR-002 | Replacement/Capital | 131,655
AK | Native Village of Unalakleet | D2016-TRTR-003 | Replacement/Capital | 28,340
AK | Nome Eskimo Community | D2016-TRTR-004 | Existing/Operating | 179,621
AK | Nulato Village | D2016-TRTR-005 | Start-up/Planning | 25,000
AK | Rampart Village | D2016-TRTR-006 | Start-up/Planning | 25,000
AZ | Hualapai Indian Tribe | D2016-TRTR-007 | Start-up/Capital | 140,962
CA | Blue Lake Rancheria, California | D2016-TRTR-008 | Replacement/Capital | 120,000
CA | North Fork Rancheria of Mono Indians of California | D2016-TRTR-009 | Expansion, Replacement/Capital | 66,994
CA | Susanville Indian Rancheria | D2016-TRTR-010 | Replacement/Capital | 45,000
CA | Susanville Indian Rancheria | D2016-TRTR-011 | Existing/Capital | 1,980
CA | Yurok Tribe | D2016-TRTR-012 | Expansion, Replacement/Capital | 234,000
CT | Mashantucket Pequot Tribal Nation | D2016-TRTR-013 | Start-up/Operating | 133,705
ID | Shoshone-Bannock Tribes | D2016-TRTR-014 | Expansion/Capital | 85,400
KS | Prairie Band Potawatomi Nation | D2016-TRTR-015 | Expansion, Replacement/Capital | 287,500
MN | Bois Forte Band of Chippewa | D2016-TRTR-016 | Expansion/Capital | 329,843
MN | Fond du Lac Band of Lake Superior Chippewa | D2016-TRTR-017 | Existing/Capital | 127,987
MN | White Earth Band of Chippewa Indians | D2016-TRTR-018 | Replacement/Capital | 116,352
MT | Chippewa Cree Tribe | D2016-TRTR-019 | Replacement/Capital | 77,875
MT | Confederated Salish and Kootenai Tribes | D2016-TRTR-020 | Expansion/Capital | 329,843
MT | Northern Cheyenne Tribe of the Northern Cheyenne Indian Res | D2016-TRTR-021 | Replacement/Capital | 119,340
NM | Jicarilla Apache Nation | D2016-TRTR-022 | Start-up/Capital | 211,197
OK | Cherokee Nation | D2016-TRTR-023 | Replacement/Capital | 321,561
OK | Choctaw Nation of Oklahoma | D2016-TRTR-024 | Expansion, Replacement/Capital | 329,843
OK | Miami Tribe of Oklahoma | D2016-TRTR-025 | Expansion, Replacement/Capital | 179,100
OK | Muscogee (Creek) Nation | D2016-TRTR-026 | Existing/Capital | 108,000
OK | Seminole Nation of Oklahoma | D2016-TRTR-027 | Replacement/Capital | 135,000
OK | Wichita and Affiliated Tribes | D2016-TRTR-028 | Start-up/Planning | 24,998
WA | Confederated Tribes and Bands of the Yakama Nation | D2016-TRTR-029 | Expansion/Capital | 255,344
WA | Cowlitz Indian Tribe | D2016-TRTR-030 | Existing, Replacement/Capital | 58,056
WA | Kalispel Indian Community of the Kalispel Reservation | D2016-TRTR-031 | Replacement/Capital | 51,021
WA | Muckleshoot Indian Tribe | D2016-TRTR-032 | Existing/Operating | 329,843
WA | Nooksack Indian Tribe | D2016-TRTR-033 | Existing/Operating | 188,000
WA | Snoqualmie Indian Tribe | D2016-TRTR-034 | Existing/Operating | 113,640
WI | Red Cliff Band of Lake Superior Chippewa Indians | D2016-TRTR-035 | Existing/Planning | 25,000
Total Allocation |  |  |  | 5,000,000

[FR Doc. 2016-29020 Filed 12-2-16; 8:45 am]

BILLING CODE P